DEPARTMENT OF THE INTERIOR

National Park Service

[NPS-WASO-NAGPRA-13681; PPWOCRADN0-PCU00RP14.R50000]

Notice of Intent To Repatriate Cultural Items: University of Colorado Museum of Natural History, Boulder, CO

AGENCY: National Park Service, Interior.

ACTION: Notice.

SUMMARY: The University of Colorado Museum of Natural History, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the University of Colorado Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the University of Colorado Museum of Natural History at the address in this notice by September 16, 2013.

ADDRESSES: Jen Shannon, Curator of Cultural Anthropology, University of Colorado Museum of Natural History, 218 UCB, Boulder, CO 80309-0218, telephone (303) 492-6276, email jshannon@colorado.edu.

SUPPLEMENTARY INFORMATION: Notice is here given in accordance with the Native American Graves Protection and Repatriation Act (NAGPRA), 25 U.S.C. 3005, of the intent to repatriate cultural items under the control of the University of Colorado Museum of Natural History, Boulder, CO that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In September 1970, Joe Ben Wheat, Curator of Anthropology, purchased for the University of Colorado Museum of Natural History one cultural item. Dr. Wheat acquired this item from an unknown individual. The sacred object and object of cultural patrimony is a Monsterway Protectionway medicine bundle (jish) (catalog # 22437a-y). The dimensions are 10.7cm × 0.9cm.

In the spring of 1977, Muriel Sibell Wolle, former University of Colorado art and art history professor, bequeathed to the University of Colorado Museum of Natural History two cultural items. Professor Wolle acquired these items on an unknown date from an unknown individual. The two sacred objects and objects of cultural patrimony are Keet'aan Yalti'i (Twin Fetish Gods) (catalog # 26691) and Ha'da'honiye' (Mirage Stone) (catalog # 26692). The Twin Fetish Gods are comprised of one light colored stone and one mostly dark banded stone. Both stones have four inlays, three of which are turquoise and a fourth abalone. These inlays are located at the wider end of the stones and are arranged in a quadrate pattern. Multicolored yarn (red, green, purple, orange, and white) encircles almost three quarters of the two stones. Three tabular abalone shells measuring 2.5cm × 5cm are attached by twine to the yarn. A number of peacock, bluebird, and other unidentified feathers are inserted between the stones and the yarn. The Mirage Stone is a solid cylinder of grayish-white mirage/aragonite stone. Both ends of the cylinder are bordered with an inlay of green turquoise chips.

In 1979, H. Jackson Clark, Sr., owner of the Toh-Atin Gallery, Durango, CO, donated one cultural item to the University of Colorado Museum of Natural History. Mr. Clark acquired this item on an unknown date from an unknown individual. The sacred object and object of cultural patrimony is a Hóchxó íjí Jish (Evilway Medicine Bundle) (catalog # 1979.5.1-24), which consists of 10 small pouches contained in a bag with a hole that allows the jish to be placed over a saddle horn for transport.

On December 9, 1983, Harris “Tommy” and Lee Thompson donated one cultural item to the University of Colorado Museum of Natural History. The donors acquired this item at an unknown date from an unknown individual. The sacred object and object of cultural patrimony is a Keet'aan Yalti'i (Twin Fetish Gods) with pouch (catalog # 1983.47.1 A-B (34509 A-B)). The twin fetish is comprised of two stones, one white and one striated gray with feather headdresses and facial features of small inlaid turquoise. Identical animal forms are bound to the front and back of each with multicolored yarn wrappings. Also tied to them with yarn is a small buckskin infant-like figure. Below the yarn wrapping is a beaded buckskin kilt with buckskin ties and fringe of colored yarn. Their overall dimensions are 15.5cm x 4.5cm.

In September of 1984, H. Jackson Clark, Sr., owner of the Toh-Atin Gallery, Durango, CO, donated one cultural item to the University of Colorado Museum of Natural History. Mr. Clark acquired this item on an unknown date from an unknown individual on the Navajo Reservation. The sacred object and object of cultural patrimony is a Hóchxó íjí Jish (Evilway Medicine Bundle) and Diné Bi Nilchi ji Jish (Navajo Windway Medicine Bundle) (catalog # 1984.9.2).

During consultation, representatives of the Navajo Nation provided evidence in support of cultural affiliation as well as the determination that the items are both sacred objects and objects of cultural patrimony. The anthropological literature, including the work of Leland C. Wyman, also supports cultural affiliation. During consultation, the Navajo representatives described and demonstrated the purpose and use of many of items. They also related how wide the use of the items is today and how Navajo people today are being trained in their use. They also explained that the items are alive and must be cared for in specific ways and treated with respect.

Determinations Made by the University of Colorado Museum of Natural History

Officials of the University of Colorado Museum of Natural History have determined that:

• Pursuant to 25 U.S.C. 3001(3)(C), the six cultural items described above are specific ceremonial objects needed by traditional Native American religious leaders for the practice of traditional Native American religions by their present-day adherents.

• Pursuant to 25 U.S.C. 3001(3)(D), the six cultural items described above have ongoing historical, traditional, or cultural importance central to the Native American group or culture itself, rather than property owned by an individual.

• Pursuant to 25 U.S.C. 3001(2), there is a relationship of shared group identity that can be reasonably traced between the sacred objects and objects of cultural patrimony and the Navajo Nation, Arizona, New Mexico & Utah.

Additional Requestors and Disposition

Lineal descendants or representatives of any Indian tribe or Native Hawaiian organization not identified in this notice that wish to claim these cultural items should submit a written request with information in support of the claim to Jen Shannon, Curator of Cultural Anthropology, University of Colorado Museum of Natural History, 218 UCB, Boulder, CO 80309-0218, telephone (303) 492-6276, email jshannon@colorado.edu, by September 16, 2013. After that date, if no additional claimants have come forward, transfer of control of the sacred objects and objects of cultural patrimony to the Navajo Nation, Arizona, New Mexico & Utah may proceed.

The University of Colorado Museum of Natural History is responsible for notifying the Navajo Nation, Arizona, New Mexico & Utah that this notice has been published.

Dated: July 31, 2013.
Sherry Hutt,
Manager, National NAGPRA Program.

[FR Doc. 2013-20007 Filed 8-15-13; 8:45 am]

BILLING CODE 4312-50-P